DEPARTMENT OF LABOR

Employment and Training Administration

[TA-W-40,577]

Kurt Manufacturing Company, Minneapolis, Minnesota; Notice of Termination of Investigation

Pursuant to Section 221 of the Trade Act of 1974, an investigation was initiated on January 14, 2002, in response to a petition filed by three workers on behalf of all workers at Kurt Manufacturing Company, Minneapolis, Minnesota.

The workers' petition regarding the investigation is invalid. Each of the petitioners is employed in a different division of Kurt Manufacturing. Consequently, further investigation in this case would serve no purpose, and the investigation has been terminated.

Dated: Signed at Washington, D.C., this 8th day of March 2002.
Linda G. Poole,
Certifying Officer, Division of Trade Adjustment Assistance.

[FR Doc. 02-7597 Filed 3-28-02; 8:45 am]

BILLING CODE 4510-30-M